DEPARTMENT OF HEALTH AND HUMAN SERVICES

Centers for Disease Control and Prevention

Meeting of the Advisory Council for the Elimination of Tuberculosis

AGENCY: Centers for Disease Control and Prevention (CDC), Department of Health and Human Services (HHS).

ACTION: Notice of meeting.

SUMMARY: In accordance with the Federal Advisory Committee Act, the Centers for Disease Control and Prevention (CDC) announces the following meeting of the Advisory Council for the Elimination of Tuberculosis (ACET). This meeting is open to the public, limited only by the number of audio and web conference lines (1,000 lines are available). Time will be available for public comment (registration is required to provide oral comment).

DATES: The meeting will be held on June 25, 2024, from 9:30 a.m. to 4:30 p.m., EDT, and June 26, 2024, from 10 a.m. to 12 p.m., EDT.

Written comments must be submitted by July 2, 2024. Registration to make oral comments must be submitted by June 18, 2024.

ADDRESSES: The telephone access number is 1-669-254-5252, Webinar ID: 160 567 2365, and the Passcode is 53696016. The web conference access is https://cdc.zoomgov.com/j/1605672365?pwd=Vjd0N0JIdjR3ZTZUZ21kaTcvMHVTZz09, and the Passcode is 9?A=EB8b. The number of available audio and web conference lines is 1,000.

FOR FURTHER INFORMATION CONTACT: Marah Condit, M.S., Committee Management Lead, Office of Policy, Planning, and Partnerships, National Center for HIV, Viral Hepatitis, STD, and TB Prevention, Centers for Disease Control and Prevention, 1600 Clifton Road NE, Mailstop US8-6, Atlanta, Georgia 30329-4027. Telephone: (404) 639-3423; Email: nchhstppolicy@cdc.gov.

SUPPLEMENTARY INFORMATION:

Purpose: The Advisory Council for the Elimination of Tuberculosis is charged with providing advice and recommendations regarding the elimination of tuberculosis (TB) to the Secretary of Health and Human Services, the Assistant Secretary for Health, and the Director, Centers for Disease Control and Prevention (CDC). Specifically, the Council makes recommendations regarding policies, strategies, objectives, and priorities; addresses the development and application of new technologies; provides guidance and review on CDC's Tuberculosis Prevention Research portfolio and program priorities; and reviews the extent to which progress has been made toward eliminating TB.

Matters to be Considered: The agenda will include discussions on: (1) CDC's National Center for HIV, Viral Hepatitis, STD, and TB Prevention Update; (2) CDC's Division of Tuberculosis Elimination Update; (3) TB in New Arrivals; (4) Regulation of Laboratory Developed Tests and the Impact on TB Testing in the United States; (5) National Tuberculosis Coalition of America Guidelines for Respiratory Isolation and Restrictions to Reduce Transmission of Pulmonary Tuberculosis in Community Settings; (6) Laboratory Developed Tests Workgroup Update; and (7) Drug Shortage Workgroup Update. Agenda items are subject to change as priorities dictate.

Public Participation

Written Public Comment: Members of the public are welcome to submit written comments in advance of the meeting. Written comments must be submitted by emailing nchhstppolicy@cdc.gov with subject line “ACET June 2024 Public Comment Registration” by July 2, 2024.

Oral Public Comment: Individuals who would like to make an oral comment during the public comment period must register by emailing nchhstppolicy@cdc.gov with subject line “ACET June 2024 Public Comment Registration” by June 18, 2024. The public comment period is on June 26, 2024, at 10:15 a.m., EDT.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-10300 Filed 5-10-24; 8:45 am]

BILLING CODE 4163-18-P